SMALL BUSINESS ADMINISTRATION

[License No.02/27-0604]

KBL Healthcare, L.P.; Notice Seeking Exemption Under Section 312 of the Small Business Investment Act, Conflicts of Interest

Notice is hereby given that KBL Healthcare, L.P., 645 Madison Avenue New York, NY 10022, a Federal Licensee under the Small Business Investment Act of 1958, as amended (“the Act”), in connection the financing of a small concern, has sought an exemption under section 312 of the Act and Section 107.730, Financings which Constitute Conflicts of Interest of the Small Business Administration (“SBA”) rules and regulations (13 CFR 107.730 (2000)). KBL Healthcare, L.P. proposes to provide equity security financing to Lumenos, Inc., 1725 Duke Street, Suite 400 Alexandria, VA 22314. The financing is contemplated for technology development, sales and marketing, working capital and general corporate purposes.

The financing is brought within the purview of Section 107.730(a)(1) of the Regulations because KBL Healthcare Inc., KBL Healthcare Ventures, L.P., KBL Partnership, L.P. and other related individuals and entities, Associates of KBL Healthcare, L.P., together currently own greater than 10 percent of Lumenos, Inc. and therefore Lumenos, Inc. is considered an Associate of KBL Healthcare, L.P. as defined in Section 107.50 of the regulations.

Notice is hereby given that any interested person may submit written comments on the transaction to the Acting Associate Administrator for Investment, U.S. Small Business Administration, 409 Third Street, SW, Washington, DC 20416.

Dated: September 6, 2001.
Harry Haskins,
Acting Associate Administrator for Investment.

[FR Doc. 01-23297 Filed 9-18-01; 8:45 am]

BILLING CODE 8025-01-P